DEPARTMENT OF HEALTH AND HUMAN SERVICES

Centers for Disease Control and Prevention

Collection of Certain Data Regarding Passengers and Crew Arriving From Foreign Countries by Airlines

AGENCY: Centers for Disease Control and Prevention (CDC), Department of Health and Human Services (HHS).

ACTION: Agency order.

SUMMARY: The Centers for Disease Control and Prevention (CDC), a component of the Department of Health and Human Services (HHS), announces the issuance of an Order requiring airlines to collect and provide information about any passenger who has departed from, or was otherwise present within, the People's Republic of China (excluding the special administrative regions of Hong Kong and Macau) within 14 days of the person's entry or attempted entry into the United States via that airline's carriage (“Designated Passenger”).

DATES: This order was issued on February 18, 2020.

FOR FURTHER INFORMATION CONTACT: Jennifer Buigut, Division of Global Migration and Quarantine, Centers for Disease Control and Prevention, 1600 Clifton Road NE, MS V18-2, Atlanta, GA 30329. Phone: 404-498-1600. Email: dgmqpolicy@cdc.gov.

SUPPLEMENTARY INFORMATION:

Background

On February 12, 2020 HHS/CDC published an Interim Final Rule (IFR) in the Federal Register amending its Foreign Quarantine regulations at 42 CFR part 71 (85 FR 7874) to enable CDC to require airlines to collect, and, upon order of the Director of CDC, provide to CDC in a timelier manner, certain data regarding passengers and crew arriving from foreign countries for the purposes of health education, treatment, prophylaxis, or other appropriate public health interventions, including travel restrictions. This Interim Final Rule became effective on February 7, 2020, the day on which it went on display at the Office of the Federal Register. HHS/CDC undertook this rulemaking because a fundamental component of the public health response to the report of a person with a communicable disease is the identification and evaluation of those who may have been exposed. Thus, in order to control the introduction, transmission, and spread of communicable diseases into the United States, such as COVID-19, CDC must be able to identify and locate persons arriving in the United States from a foreign country who may have been exposed to a communicable disease abroad. Another fundamental component of a public health response is identifying and contacting those individuals who may have come in contact with a person with a communicable disease and who may be at risk of contracting the disease as a result of their interactions with such affected persons. The identification and notification of those exposed is an essential first step in providing the exposed access to potentially life-saving medical screening, follow-up, disease prevention measures, including vaccination and other preventive treatments, and medical treatment and supportive care. Preventing secondary cases among contacts, in turn, helps prevent the propagation and spread of disease within the community. Therefore, travelers and the public at large derive direct benefit from a system that ensures that, if an exposure has occurred, health authorities can identify, locate, and notify affected passengers and those individuals who came into contact with them within the incubation period of the disease. Contact tracing is effective at reducing cases of communicable disease at the early stages of a potential outbreak if the contacts are notified as soon after initial exposure as possible. If an efficient contact system is not in place when the first ill passengers arrive, the benefits of the contact tracing are greatly diminished.

Order of the Centers for Disease Control and Prevention, Department of Health and Human Services Under 42 CFR 71.31 and 71.4

Attn: Each airline carrying a passenger who has departed from, or was otherwise present within, the People's Republic of China (excluding the special administrative regions of Hong Kong and Macau) within 14 days of the date of the passenger's entry or attempted entry into the United States via that airline's carriage.

In accordance with 42 CFR 71.31(b) and 71.4(d), as authorized by 42 U.S.C. 264:

1. Each airline is hereby ordered to collect and provide information about any passenger who has departed from, or was otherwise present within, the People's Republic of China (excluding the special administrative regions of Hong Kong and Macau) within 14 days of the date of the passenger's entry or attempted entry into the United States via that airline's carriage (“Designated Passengers”).

2. Each airline must collect and provide the following information (“Designated Information”) to the extent such information exists for any Designated Passenger carried by that airline:

a. Full name (last, first, and, if available, middle or others);

b. Primary contact phone number to include country code, at which a Designated Passenger can be contacted while in the United States;

c. Secondary contact phone number to include country code;

d. Address or addresses while a Designated Passenger is in the United States (number and street, city, State, and zip code), except that a U.S. citizen or a lawful permanent resident will provide address of permanent residence in the United States (number and street, city, State, and zip code); and

e. Email address that a Designated Passenger will use for email communications while in the United States.

3. Each airline must produce, using existing data-sharing channels, the Designated Information to the Director of the CDC's Division of Global Migration and Quarantine (“DGMQ”), or his representative. If existing data-sharing channels become unavailable, within 12 hours, the affected airline or airlines must identify an alternate means of transmitting the required data in a manner acceptable to CDC.

4. Each airline must provide Designated Information within 2 hours of the departure of the flight carrying a Designated Passenger.

5. Before or immediately upon arrival in the United States, each airline must provide to CDC (the head of the arrival airport's Quarantine Station) the name of any Designated Passenger who had refused or was otherwise unable to provide all five fields of the Designated Information prior to departure.

6. Each airline must provide Designated Information for the duration of the January 31, 2020 Proclamation on Suspension of Entry as Immigrants and Nonimmigrants of Persons who Pose a Risk of Transmitting 2019 Coronavirus. This order will cease to be effective when the Interim Final Rule at Federal Register, Vol. 85, No. 29, ceases to be effective.

The CDC Director has determined that Designated Passengers may be at risk of exposure to COVID-19. CDC will use this information for the purposes of public health follow-up, such as health education, treatment, prophylaxis, or other appropriate public health interventions, including travel restrictions.

“Airline” as used in this order has the meaning provided at 42 CFR 71.1(b).

Failure to comply with this order may result in the imposition of fines or other penalties as provided in 42 U.S.C. 271 and 42 CFR 71.2, or as otherwise provided by law. CDC maintains information retrieved by personal identifier in accordance with federal law, including the Privacy Act of 1974 (5 U.S.C. 552a). Identifiable information may be shared only for lawful purposes, including with authorized personnel of the U.S. Department of Health and Human Services, state and local public health departments, and other cooperating authorities. CDC will delete the Designated Information when no longer required for the purposes set forth above, in accordance with federal law, and request that State and local governments do the same.

CDC may modify this order by an updated publication in the Federal Register or by posting an advisory to follow at www.cdc.gov.

Paperwork Reduction Act

The Paperwork Reduction Act applies to the collection of this information. CDC has obtained approval from the Office of Management and Budget (OMB) for this data collection titled `Airline and Vessel and Traveler Information Collection (42 CFR part 71)' under OMB Control No. 0920-1180 (exp. May 30, 2020).

Dated: February 19, 2020.
Robert R. Redfield,
Director, Centers for Disease Control and Prevention.

[FR Doc. 2020-03636 Filed 2-19-20; 4:45 pm]

BILLING CODE 4163-18-P